DEPARTMENT OF TRANSPORTATION

Office of the Secretary

Privacy Act of 1974; System of Records Notice

AGENCY: Office of the Secretary of Transportation (OST), Department of Transportation (DOT).

ACTION: Notice to establish a system of records.

SUMMARY: The Department of Transportation's Office of the Secretary of Transportation (DOT/OST) proposes to establish a DOT-wide system of records under the Privacy Act of 1974 (5 U.S.C. 552a) to cover emergency contact records that are not covered by the government-wide System of Records Notice (SORN) of the Office of Personnel Management, OPM/GOVT-1. (OPM/GOVT-1 covers some but not all employee contact records that are maintained outside the Official Personnel File, does not cover agencies' emergency-program-related contact records, and does not cover contact information about contractor personnel.) The DOT-wide system, known as the Emergency Contact Records system (ECR), is more thoroughly detailed below.

DATES: Effective December 27, 2010. Written comments should be submitted on or before the effective date. DOT/OST may publish an amended SORN in light of any comments received.

ADDRESSES: Send written comments to Habib Azarsina, Departmental Privacy Officer, Office of the Chief Information Officer, U.S. Department of Transportation, 1200 New Jersey Avenue, SE., Washington, DC 20590 or habib.azarsina@dot.gov.

FOR FURTHER INFORMATION CONTACT: For privacy issues please contact: Habib Azarsina, Departmental Privacy Officer, Office of the Chief Information Officer, U.S. Department of Transportation, 1200 New Jersey Avenue, SE., Washington, DC 20590 or habib.azarsina@dot.gov or (202) 366-1965.

SUPPLEMENTARY INFORMATION:

I. DOT Emergency Contact Records

This System of Records Notice covers all Privacy Act systems within DOT that maintain emergency contact records about DOT personnel (including employees, detailees and contractor personnel), other than those covered by OPM/GOVT-1. Examples of such systems include, but are not limited to, the following:

• DOT offices that administer emergency-related programs (such as emergency response, building evacuation, continuity of operations) maintain emergency contact records about emergency, mission-critical emergency, and other personnel as required for those programs.

• Supervisors and administrative assistants in offices throughout DOT maintain emergency contact records about personnel in their work units for general office administrative purposes.

• Some DOT components maintain automated systems to communicate mass notifications to all of their employees, including those who are not involved in emergency and mission-critical programs.

II. The Privacy Act

The Privacy Act (5 U.S.C. 552a) governs the means by which the United States Government collects, maintains, and uses personally identifiable information (PII) in a system of records. A “system of records” is a group of any records under the control of a Federal agency from which information about individuals is retrieved by name or other personal identifier.

The Privacy Act requires each agency to publish in the Federal Register a system of records notice (SORN) identifying and describing each system of records the agency maintains, including the purposes for which the agency uses PII in the system, the routine uses for which the agency discloses such information outside the agency, and how individuals to whom a Privacy Act record pertains can exercise their rights under the Privacy Act (e.g., to determine if the system contains information about them).

In accordance with 5 U.S.C. 552a(r), a report on the establishment of this system of records has been sent to Congress and to the Office of Management and Budget.

System Number: DOT/ALL 22

SYSTEM NAME:

Emergency Contact Records (ECR)—Not Covered by Notices of Other Agencies.

SECURITY CLASSIFICATION:

Unclassified, sensitive.

SYSTEM LOCATION:

These records are maintained at all Department of Transportation (DOT) Headquarters offices and field locations, for all DOT components. Locations are available from http://www.dot.gov.

CATEGORIES OF INDIVIDUALS COVERED BY THE SYSTEM OF RECORDS:

Record subjects are current and former DOT employees, detailees and contractor personnel.

CATEGORIES OF RECORDS IN THE SYSTEM:

The system includes emergency contact records not covered by OPM/GOVT-1, including but not limited to records that particular DOT offices create for emergency-related programs (such as emergency response, building evacuation and continuity of operations); that DOT supervisors and administrative assistants create for their general office administrative purposes; and that DOT components use to provide mass notifications to employees. The records contain personal contact information for employees, detailees and contractor personnel and for their designated contacts (e.g., relatives, friends), and may include the following personally-identifiable information (PII) about them:

• Personal cell phone number, home telephone number, home fax number, home address, home e-mail address;

• Information about the personnel member's skills, position, and assignment to or membership on an emergency response team (such as a continuity of operations cadre or a field incident response team), to facilitate their deployment in an emergency;

• Work location information, which may include zip code or geophysical information system data to facilitate mapping of locations where the personnel member is working;

• Special needs information such as medical conditions or mobility requirements (such information is not routinely collected but may be included if a personnel member provides it voluntarily); and

• The personnel member's relationship to any third-party contacts he or she designates.

AUTHORITY FOR MAINTENANCE OF THE SYSTEM:

The National Security Act of 1947, as amended; the Homeland Security Act of 2002 (Pub. L. 107-296), dated November 25, 2002; Executive Order 12148, Federal Emergency Management, dated July 20, 1979, as amended; Executive Order 12656, Assignment of Emergency Preparedness Responsibilities, dated November 18, 1988, as amended; Executive Order 13286, Establishing the Office of Homeland Security, dated February 28, 2003.

PURPOSE(S):

Emergency contact records are used by DOT human resources specialists, security, safety and emergency response coordinators, members of emergency response teams and other work units, and supervisors and administrative assistants, on a need to know basis, for the reasons such as the following:

• To identify and locate emergency personnel to work during emergencies, office dismissal or closure situations;

• To identify and locate mission-critical emergency personnel to participate in continuity of operations exercises and to provide continuity of operations during national security, natural disaster, pandemic flu and similar situations;

• To account for and maintain communication with personnel during an office closure, building evacuation, natural disaster, pandemic flu or other office emergency (e.g., to make telework or leave arrangements), or to contact them about an urgent work matter (e.g., during off-duty hours);

• To notify designated third-party contact(s) to help locate a personnel member who is absent without leave, or to assist a personnel member in an evacuation or if he or she is injured, ill or incapacitated at work; and

• To deliver an identical automated message to all of the component's or office's personnel, alerting them to conditions such as power outages, road closings and extreme weather.

Any special needs, medical condition or similar information contained in the records is maintained and used in accordance with relevant provisions of the Rehabilitation Act of 1973, as amended, 29 U.S.C. 791, et seq., and implementing regulations at 29 CFR parts 1614 and 1630, and the Genetic Information Nondiscrimination Act of 2008 at 42 U.S.C. 2000ff et seq..

Contractor personnel and detailees assisting DOT may have access to and use information in these systems; for example, DOT may use contractors to provide emergency notification and communication services or system administrative services for databases containing the records.

ROUTINE USES OF RECORDS MAINTAINED IN THE SYSTEM, INCLUDING CATEGORIES OF USERS AND THE PURPOSES OF SUCH USES:

DOT shares contact information about emergency personnel and mission-critical emergency personnel who are assigned to DOT emergency-related programs with Federal, State and local governmental agencies or executive offices, relief agencies, 501c3s, and non-governmental organizations, when disclosure is appropriate for proper coordination of security, protective, and other official operations and functions in response to or in preparation for emergency situations.

Other possible routine uses of the information, applicable to all DOT Privacy Act systems of records, are published in the Federal Register at 65 FR 19476 (April 11, 2000), under “Prefatory Statement of General Routine Uses” (available at http://www.dot.gov/privacy/privacyactnotices).

DISCLOSURE TO CONSUMER REPORTING AGENCIES:

None.

POLICIES AND PRACTICES FOR STORING, RETRIEVING, ACCESSING, RETAINING, AND DISPOSING OF RECORDS IN THE SYSTEM—

STORAGE:

Electronic databases and paper file folders.

RETRIEVABILITY:

Records may be retrieved by the individual record subject's name, location, telephone number, special identification numbers or codes assigned only for these records, and/or other personal identifier.

SAFEGUARDS:

Only personnel with a need to know are authorized to access the records. Access to electronic records is controlled by password and limited according to job function. Personnel may be allowed access to their own entries, to edit or update them. Access to hard-copy records is controlled by lock and key or by access to a secure area.

RETENTION AND DISPOSAL:

Pursuant to General Records Schedule 18, Item 27, contact records maintained for emergency-related programs are destroyed 3 years after issuance of a new emergency plan or directive. Pursuant to General Records Schedule 1, Item 18, other emergency contact records (such as those maintained by supervisors and administrative assistants) are destroyed when superseded or obsolete or within one year after separation or transfer of the personnel member.

SYSTEM MANAGER AND ADDRESS:

The DOT Office of Intelligence, Security and Emergency Response, the Human Resources Office, the Head of the individual record subject's employing office, or the supervisor or administrative assistant for the work group or unit.

NOTIFICATION PROCEDURE:

At any time, the record subject (the individual personnel member) may contact the System Manager to request access to review his or her personal information in the system and request changes, as appropriate. A requester must provide suitable identification and may be required to sign a written request, including but not limited to the requester's name, mailing address, telephone number and/or e-mail address, a description of the records requested, and a sworn statement (either a signed, notarized statement or a statement signed under penalty of perjury) that the requester is the individual who he or she claims to be.

RECORD ACCESS PROCEDURE:

Same as indicated under “Notification procedure.”

CONTESTING RECORD PROCEDURE:

Same as indicated under “Notification procedure.”

RECORD SOURCE CATEGORIES:

Individual personnel members provide their own emergency contact information. Supervisors designate employees to serve as emergency employees or mission critical emergency employees. Emergency personnel, security specialists, human resources specialists, supervisors and administrative assistants may provide other information (e.g., skill data, work location information, job titles, occupational code/series, and information that describes the emergency response group or work unit to which the individual is assigned).

EXEMPTIONS CLAIMED FOR THE SYSTEM:

None.

Dated: November 3, 2010.
Habib Azarsina,
Departmental Privacy Officer,
202-366-1965.

[FR Doc. 2010-28238 Filed 11-8-10; 8:45 am]

BILLING CODE 4910-9X-P